ENVIRONMENTAL PROTECTION AGENCY

[FRL-8248-5]

Good Neighbor Environmental Board; Notification of Public Advisory Committee Teleconference Meeting

AGENCY: Environmental Protection Agency (EPA).

ACTION: Notification of Public Advisory Committee Teleconference Meeting.

SUMMARY: Pursuant to the Federal Advisory Committee Act, Public Law 92-463, notice is hereby given that the Good Neighbor Environmental Board (GNEB) will meet in a public teleconference on December 1, 2006, from 1 p.m. to 2:30 p.m. Eastern Time. The meeting will be hosted out of the main conference room, U.S. EPA, 655 15th Street, NW., Suite 800, Washington, DC 20005. The meeting is open to the public, however, due to limited space, seating will be on a registration-only basis. For further information regarding the teleconference meeting, please contact the individuals listed below.

Background: GNEB is a federal advisory committee chartered under the Federal Advisory Committee Act, Public Law 92-463. GNEB provides advice and recommendations to the President and Congress on environmental and infrastructure issues along the U.S. border with Mexico.

Purpose of Meeting: GNEB has prepared its draft Tenth Report with recommendations on the intersection of environmental protection and security activities along the U.S.-Mexico border. The purpose of this teleconference is for the Board to review, discuss, and decide whether to approve its draft report.

Availability of Review Materials: If you wish to receive a copy of the draft report, please contact Designated Federal Officer, Elaine Koerner, at the address below, or Office of Cooperative Environmental Management Associate Director, Mark Joyce, at the address below.

SUPPLEMENTARY INFORMATION: Members of the public wishing to gain access to the conference room on the day of the meeting must contact Elaine Koerner, Designated Federal Officer for GNEB, U.S. Environmental Protection Agency (1601E), Office of Cooperative Environmental Management, 655 15th Street, NW., Suite 800, Washington, DC 20005; telephone/voice mail at (202) 233-0069 or via e-mail at koerner.elaine@epa.gov. If you are unable to directly reach DFO Koerner, please contact Office of Cooperative Environmental Management Associate Director Mark Joyce at the same address or via telephone/voicemail at (202) 233-0068 or via e-mail at joyce.mark@epa.gov. If you wish to make oral comments or to submit written comments to the Board, please contact DFO Koerner and Associate Director Joyce by November 27, 2006.

General Information: Additional information concerning the Good Neighbor Environmental Board (GNEB) can be found on its Web site www.epa.gov/ocem/gneb.

Meeting Access: For information on access or services for individuals with disabilities, please contact Elaine Koerner at 202-233-0069 or Mark Joyce at 202-233-0068. To request accommodation of a disability, please contact Elaine Koerner or Mark Joyce, preferably at least 10 days prior to the meeting, to give EPA as much time as possible to process your request.

Dated: November 15, 2006.
Mark Joyce,
Associate Director.

[FR Doc. E6-19990 Filed 11-24-06; 8:45 am]

BILLING CODE 6560-50-P